DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS) Subcommittee on Standards.

Time and Date: February 19, 2014 9:00 p.m.-5:00 p.m. EST.

Place: Hubert H. Humphrey Building; 200 Independence Avenue SW., Room 705A, Washington, DC 20201. Public attendees should call (202) 690-7100 for admission to the meeting room on the day of the meeting.

Status: Open.

Purpose: The purpose of this hearing is to gather industry input on the status of selected administrative simplification topics that are a priority for 2014, including the status of development of Operating Rules for all remaining HIPAA transactions (Claims, Enrollment, Premium Payment, Prior Authorization, Claims Attachments). The meeting will also include a discussion of: the status of initial implementation of Operating Rules for Electronic Funds Transfer and Electronic Remittance Advice, which began January 1, 2014; the ICD-10 transition, in particular, the use of ICD-10 by property/casualty and workers' compensation programs; plans for adoption and use of Health Plan ID; and a review of recommendations from the Designated Standards Maintenance Organizations (DSMO) regarding the Pharmacy Prior Authorization Standard.

Contact Person For More Information: Debbie M. Jackson, Acting Executive Secretary, NCVHS, National Center for Health Statistics, Centers for Disease Control and Prevention, 2339 Toledo Road, Room 2402, Hyattsville, Maryland 20782, telephone (301) 458-4614 or Kamahanahokulani Farrar, Centers for Medicare and Medicaid Services, Office of E-Health Standards and Services, 7500 Security Boulevard, Baltimore, Maryland, 21244, telephone (410) 786-6711. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: January 24, 2014.
James Scanlon,
Deputy Assistant Secretary for Planning and Evaluation (Science and Data Policy), Office of the Assistant Secretary for Planning and Evaluation.

[FR Doc. 2014-02067 Filed 1-30-14; 8:45 am]

BILLING CODE 4151-05-P